GENERAL SERVICES ADMINISTRATION

Office of Governmentwide Policy; Cancellation of an Optional Form

AGENCY: Office of Governmentwide Policy, GSA.

ACTION: Notice.

SUMMARY: Because of low usage, the following Optional Form is cancelled: OF 71A, Fragile (Large Label).

FOR FURTHER INFORMATION CONTACT: Ms. Barbara Williams, General Services Administration, (202) 501-0581.

DATES: Effective July 15, 2005.

Dated: July 8, 2005.
Barbara M. Williams,
Standard and Optional Forms Management Officer, General Services Administration.

[FR Doc. 05-13917 Filed 7-14-05; 8:45 am]

BILLING CODE 6820-34-M